OFFICE OF SCIENCE AND TECHNOLOGY POLICY

March 9, 2009 Presidential Memo on Scientific Integrity: Request for Public Comment

ACTION: Request for public comment on response to Presidential Memorandum.

SUMMARY: On March 9, 2009, the President issued a memorandum for the heads of executive departments and agencies on the subject of scientific integrity (http://www.whitehouse.gov/the_press_office/Memorandum-for-the-Heads-of-Executive-Departments-and-Agencies-3-9-09/). The memorandum requires the Director of the Office of Science and Technology Policy (OSTP) to craft recommendations for Presidential action to ensure scientific integrity in the executive branch. This notice solicits public input to inform the drafting of those recommendations. The notice asks a series of questions to help guide the public in responding to this request.

DATES: There is a 21 day period for public comment from April 23, 2009 to May 13, 2009.

ADDRESSES: You may submit comments by any of the following methods:

Web Site— http://www.ostp.gov. Click the link to “Scientific Integrity” and follow the instructions for submitting comments electronically.

Electronic Mail—scientificintegrity@ostp.gov.

Mail—Office of Science and Technology Policy, Attn: Scientific Integrity Recommendations, 725 17th Street, NW., Washington, DC 20502.

Please note that all submissions may be posted without change to http://www.ostp.gov, including any personal information provided.

The public comment period will close on May 13, 2009 at 5 p.m. EST. Any comments received after the close of the comment period will not be considered.

The full text of the Presidential memorandum is posted at http://www.whitehouse.gov/the_press_office/Memorandum-for-the-Heads-of-Executive-Departments-and-Agencies-3-9-09/. The fact sheet on the Presidential memorandum is posted at http://www.whitehouse.gov/the_press_office/Fact-Sheet-on-Presidential-Memorandum-on-Scientific-Integrity/.

FOR FURTHER INFORMATION CONTACT: For information regarding this Notice, please contact scientificintegrity@ostp.eop.gov.

SUPPLEMENTARY INFORMATION: In his March 9, 2009 memorandum on Scientific Integrity, the President states that “science and the scientific process must inform and guide decisions of my Administration on a wide range of issues” and assigns the Director of the Office of Science and Technology Policy (the Director) responsibility for ensuring scientific integrity throughout the executive branch. To this end, the memorandum requires the Director to submit within 120 days a set of recommendations for Presidential action to ensure scientific integrity. If possible, for each comment you submit, please note to which of the six principles below your comment relates. This will assist in properly categorizing the public comments and responding to the President's memorandum on Scientific Integrity. The six principles from the memorandum are as follows:

(a) The selection and retention of candidates for science and technology positions in the executive branch should be based on the candidate's knowledge, credentials, experience, and integrity;

(b) Each agency should have appropriate rules and procedures to ensure the integrity of the scientific process within the agency;

(c) When scientific or technological information is considered in policy decisions, the information should be subject to well-established scientific processes, including peer review where appropriate, and each agency should appropriately and accurately reflect that information in complying with and applying relevant statutory standards.

(d) Except for information that is properly restricted from disclosure under procedures established in accordance with statute, regulation, Executive Order, or Presidential Memorandum, each agency should make available to the public the scientific or technological findings or conclusions considered or relied on in policy decisions;

(e) Each agency should have in place procedures to identify and address instances in which the scientific process or the integrity of scientific and technological information may be compromised; and

(f) Each agency should adopt such additional procedures, including any appropriate whistleblower protections, as are necessary to ensure the integrity of scientific and technological information and processes on which the agency relies in its decision-making or otherwise uses or prepares.

Comments from the public will help the OSTP determine what should be included in these recommendations. Respondents are invited to suggest: (1) Recommendations that would be responsive to the aims of the President, (2) specific implementing strategies, and (3) data and empirical evidence related to the effectiveness of strategies to promote scientific integrity. Comments submitted are encouraged to:

• Be as succinct as possible (1000 words or less recommended);

• Specify which of the prior six principles (a-f) are being addressed with each comment;

• Explain views and reasoning clearly; and

• Describe how the success of particular strategies might be evaluated or measured.

M. David Hodge,
Operations Manager, OSTP.

[FR Doc. E9-9307 Filed 4-22-09; 8:45 am]

BILLING CODE 3170-W9-P